DEPARTMENT OF THE INTERIOR

Minerals Management Service

[Docket No. MMS-2007-OMM-0013]

MMS Information Collection Activity: 1010-0170—Coastal Impact Assistance Program (CIAP), Revision of a Collection; Comment Request

AGENCY: Minerals Management Service (MMS), Interior.

ACTION: Notice of a revision of an information collection (1010-0170).

SUMMARY: To comply with the Paperwork Reduction Act of 1995 (PRA), MMS is inviting comments on a collection of information that we will submit to the Office of Management and Budget (OMB) for review and approval. The information collection request (ICR) concerns the paperwork requirements in the Coastal Impact Assistance Program (CIAP) State Plan Guidelines. The Energy Policy Act of 2005 gave responsibility to MMS for CIAP by amending section 31 of the Outer Continental Shelf Lands Act (43 U.S.C. 1356a; Appendix A).

DATES: Submit written comments by April 11, 2008.

ADDRESSES: You may submit comments by any of the following methods listed below.

• Electronically: go to http://www.regulations.gov. Under the tab “More Search Options,” click Advanced Docket Search, then select “Minerals Management Service” from the agency drop-down menu, then click “submit.” In the Docket ID column, select MMS-2008-OMM-0013 to submit public comments and to view supporting and related materials available for this rulemaking. Information on using Regulations.gov, including instructions for accessing documents, submitting comments, and viewing the docket after the close of the comment period, is available through the site's “User Tips” link. The MMS will post all comments.

• Mail or hand-carry comments to the Department of the Interior; Minerals Management Service; Attention: Cheryl Blundon; 381 Elden Street, MS-4024; Herndon, Virginia 20170-4817. Please reference “Information Collection 1010-0170” in your comments.

SUPPLEMENTARY INFORMATION: Title: Coastal Impact Assistance Program (CIAP).

OMB Control Number: 1010-0170.

Abstract: With the passage of the Energy Policy Act of 2005 (EPAct), the Minerals Management Service (MMS) was given responsibility for the Coastal Impact Assistance Program (CIAP) through the amendment of section 31 of the Outer Continental Shelf Lands Act (43 U.S.C. 1356a, Appendix A).

The CIAP recognizes that impacts from Outer Continental Shelf (OCS) oil and gas activities fall disproportionately on the coastal states and localities nearest to where the activities occur, and where associated facilities are located. The CIAP legislation appropriates money for eligible states and coastal political subdivisions for coastal restoration/improvement projects. The MMS shall disburse $250 million to eligible producing states and coastal political subdivisions (CPSs) through a grant program. The funds allocated to each state are based on the proportion of qualified OCS revenues offshore the individual state to total qualified OCS revenues from all states. In order to receive funds, the states submit CIAPs detailing how the funds will be expended. Alabama, Alaska, California, Louisiana, Mississippi, and Texas are the only eligible states under EPAct. Counties, parishes or equivalent units of government within those states lying all or in part within the coastal zone, as defined by section 304(1) of the Coastal Zone Management Act (CZMA) 1972, as amended, are the Coastal Political Subdivisions (CPSs) eligible for CIAP funding, a total of 67 local jurisdictions. All funds will be disbursed through a grant process.

In September 2006, CIAP draft guidelines were written which were then amended in May 2007. As this program has evolved and developed, more information needs to be submitted by the government jurisdictions to meet all the requirements of the CIAP State Plan Guidelines as well as requirements on the procurement contracts. To approve a plan, legislation requires that the Secretary of the Interior must be able to determine that the funds will be used in accordance with EPAct criteria and that projects will use the funds according to the EPAct. To confirm appropriate use of funds, MMS requires affirmation of grantees meeting Federal, state, and local laws and adequate project descriptions.

This information collection request revises the original ICR to include the additional information needed to fulfill the requirements of the MMS CIAP grant program.

We will protect information from respondents considered proprietary under the Freedom of Information Act (5 U.S.C. 552) and its implementing regulations (43 CFR part 2). No items of a sensitive nature are collected. Responses are required to obtain or retain benefits.

Frequency: On occasion.

Estimated Number and Description of Respondents: Approximately 6 states and 67 CPSs.

Estimated Reporting and Recordkeeping “Hour” Burden: The currently approved annual reporting burden for this collection is 12,600 hours. The following chart details the individual components and respective hour burden estimates of this ICR. In calculating the burdens, we assumed that respondents perform certain requirements in the normal course of their activities. We consider these to be usual and customary and took that into account in estimating the burden.

CIAP reporting and/or recordkeeping requirement | Hour Burden
Project narrative | 42
Submit annual performance reports | 8
Submit bi-annual performance reports | 8
Notify MMS in case of delays, adverse conditions, etc., which impair ability to meet objectives of the award including statement of action take or contemplated or assistance required (included non-construction and construction grants) | 4
Request termination and supporting information.* | 6
Retain all records/documentation for 3 years | ** 30
Retain records longer than 3 years if they relate to claim, audit, litigation, etc. Exempt under 5 CFR 1320.4(a)(2), (c) | 0
Telephone follow-up discussion on financial capabilities | 8
Develop language and individual signage at CIAP sites—estimated 30 construction projects with temp signs initially—permanent signs 2-4 years.* | 8
Submission of photographs/cds of projects for tracking purposes.* | 4
Voluntarily submit draft Coastal Impact Assistance Plan with appropriate supporting documentation | 1
Submit final Coastal Impact Assistance Plan and all supporting documentation (i.e., Governor's certification of public participation; Appendices C, D, and E) | 1
Request delay by states for submitting final plan, with relevant data | 1
Request minor changes and/or amendments to a plan | 8
* Initially determined that this will be minimal burden, for the first 3 years, until more respondents are actively involved in a CIAP project.
** Minutes.

Estimated Reporting and Recordkeeping “Non-Hour Cost” Burden: We have identified no “non-hour cost” burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “ * * * to provide notice * * * and otherwise consult with members of the public and affected agencies concerning each proposed collection of information * * * ”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: February 4, 2008.
E.P. Danenberger,
Chief, Office of Offshore Regulatory Programs.

[FR Doc. E8-2428 Filed 2-8-08; 8:45 am]

BILLING CODE 4310-MR-P